DEPARTMENT OF TRANSPORTATION

Federal Motor Carrier Safety Administration

[Docket No. FMCSA-2013-0312]

Agency Information Collection Activities; Revision of a Currently-Approved Information Collection Request: Training Certification for Drivers of Longer Combination Vehicles

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for approval and invites public comment. FMCSA requests approval to revise the ICR entitled “Training Certification for Drivers of Longer Combination Vehicles (LCVs),” due to a change in the estimated number of annual responses. This ICR relates to Agency requirements for driver certification to operate LCVs that motor carriers must satisfy before permitting their drivers to operate LCVs. Motor carriers, upon inquiry by authorized Federal, State or local officials, must produce an LCV driver-training certificate for each of their LCV drivers.

DATES: Please send your comments by April 9, 2014. OMB must receive your comments by this date in order to act on the ICR.

ADDRESSES: All comments should reference Federal Docket Management System (FDMS) Docket Number FMCSA-2013-0312. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW., ., Washington, DC 20503.

FOR FURTHER INFORMATION CONTACT: Mr. Thomas Yager, Chief, Driver and Carrier Operations Division, Department of Transportation, Federal Motor Carrier Safety Administration, West Building 6th Floor, 1200 New Jersey Avenue SE., Washington, DC 20590. Telephone: 202-366-4325; email tom.yager@dot.gov. Office hours are from 9 a.m. to 5 p.m., Monday through Friday, except Federal Holidays.

SUPPLEMENTARY INFORMATION: Title: Training Certification for Drivers of LCVs.

OMB Control Number: 2126-0026.

Type of Request: Revision of a currently-approved information collection.

Respondents: Drivers who complete LCV training each year, current LCV drivers who submit their LCV Driver-Training Certificate to prospective employers, and employers (motor carriers) that receive and maintain copies of their drivers' LCV Driver-Training Certificates.

Estimated Number of Respondents: 50,880, consisting of 940 newly certified LCV drivers plus 24,500 currently certified LCV drivers plus 25,440 motor carriers employing LCV drivers.

Estimated Time per Response: 10 minutes for preparation of LCV Driver-Training Certificates for drivers who successfully complete the LCV training, and 10 minutes for activities associated with the LCV Driver-Training Certificate during the hiring process.

Expiration Date: March 31, 2014.

Frequency of Response: On occasion.

Estimated Total Annual Burden: 4,240 hours. The total number of drivers who will be subjected to these requirements each year is 25,440, consisting of 940 newly certified LCV drivers, and 24,500 currently certified LCV drivers obtaining new employment. The total annual information collection burden is approximately 4,240 hours, consisting of 157 hours for preparation of LCV Driver-Training Certificates [940 drivers successfully completing LCV driver training × 10 minutes ÷ 60 minutes/hour] and 4,083 hours for requirements related to the hiring of LCV drivers [24,500 LCV drivers obtaining new employment × 10 minutes ÷ 60 minutes/hour].

Background: An LCV is any combination of a truck-tractor and two or more semi-trailers or trailers that operates on the National System of Interstate and Defense Highways (according to 23 CFR 658.5) and has a gross vehicle weight greater than 80,000 pounds. To enhance the safety of LCV operations on our nation's highways, Section 4007(b) of the Motor Carrier Act of 1991 directed the Secretary of Transportation to establish Federal minimum training requirements for drivers of LCVs [Intermodal Surface Transportation Efficiency Act of 1991 (ISTEA), Pub. L. 102-240, 105 Stat. 1914, 2152]. On March 30, 2004, after appropriate notice and solicitation of public comment, FMCSA established the current training requirements for operators of LCVs (69 FR 16722). The regulations bar motor carriers from permitting their drivers to operate an LCV if they have not been properly trained in accordance with the requirements of 49 CFR 380.113. Drivers receive an LCV Driver-Training Certificate upon successful completion of these training requirements. Motor carriers employing an LCV driver must verify the driver's qualifications to operate an LCV, and must maintain a copy of the LCV Driver-Training Certificate to present to authorized Federal, State or local officials upon request.

Comments from the Public: In response to the 60-day Federal Register notice published December 2, 2013, the FMCSA received one comment without a return address. The commenter was concerned that the LCV regulations (49 CFR 380.101et seq.) require drivers to submit their LCV Certificate directly to the Agency. There is no such requirement; drivers are only required to provide a copy of their LCV Certificate to their employer.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority delegated in 49 CFR 1.87 on: February 24, 2014.
G. Kelly Leone,
Associate Administrator, Office of Research and Information Technology and Chief Information Officer.

[FR Doc. 2014-05026 Filed 3-7-14; 8:45 am]

BILLING CODE 4910-EX-P